DEPARTMENT OF LABOR

Employment and Training Administration

[TA-W-37,820]

Ametek U.S. Gauge, Inc., Sellersville, Pennsylvania; Notice of Termination of Investigation

Pursuant to section 221 of the Trade Ace of 1974, an investigation was initiated on June 19, 2000, in response to a petition which was filed by the International Association of Machinists and Aerospace Workers on behalf of workers at Ametek U.S. Gauge, Inc., Sellersville, Pennsylvania.

The petitioner has withdrawn the petition. Consequently, further investigation in this case would serve no purpose, and the investigation has been terminated.

Signed at Washington, D.C. this 28th day of June, 2000.
Edward A. Tomchick,
Director, Division of Trade Adjustment Assistance.

[FR Doc. 00-18363 Filed 7-19-00; 8:45 am]

BILLING CODE 4510-30-M